Proclamation 10751 of May 3, 2024

National Fallen Firefighters Memorial Weekend, 2024

By the President of the United States of America

A Proclamation

I have often said that God made man, and then made firefighters. Their extraordinary courage embodies the best of America—with every call they answer, they put their lives on the line to keep the rest of us safe. It is more than what they do; it is who they are. This weekend, we honor the brave service of every fallen hero who has made the ultimate sacrifice for our communities.

Last year, when the First Lady and I visited Maui in the wake of the devastating fires there, we met firefighters who had performed breathtaking acts of heroism, rescuing families and saving lives, even while many of their own homes burned. Over the years, I have had the honor of knowing many like them, and I know their bravery comes at a cost. They respond to hundreds of thousands of fires, medical calls, and other emergencies every year, some of which they were never trained for. As the effects of climate change worsen, local and wildland fire departments are being called to fight deadlier and stronger blazes. Too often, they are also exposed to toxic chemicals not only in smoke, but in their own protective gear, risking their health down the line. It is a dangerous profession, with everything at stake.

Firefighters have always had our backs; as a Nation, we have to have theirs. I know that few things protect firefighters better than more firefighters. That is why, in my first months as President, I signed the American Rescue Plan, getting States and cities the funding needed to hire more firefighters during the pandemic, often boosting pay and keeping these essential heroes on the job. That law also increased Federal firefighting grants by $300 million, paying for hundreds of emergency response vehicles and thousands of sets of turnout gear, while putting more local firefighters in the field.

At the same time, we are making sure more firefighters have the quality health care they deserve. After years of incredible valor battling dangerous flames, cancer is in fact one of the leading causes of death in this community—a silent killer that stays with folks long after the blaze is out. Through our Cancer Moonshot Initiative, my Administration is working to end cancer as we know it. It aims to cut the cancer death rate in half over 25 years by investing in research and development, early detection, and screening, and better supporting patients and their families from the moment of their diagnosis. The Department of Labor has established a new unit to more quickly process claims for Federal firefighters with cancer. We are cracking down on exposure to toxic PFAS—the so-called “forever chemicals” that are used to make firefighting gear, equipment, and suppression agents. We have increased funding for research into the specific PFAS risks that firefighters face, looking for new ways to address them.

When a firefighter is harmed in the line of duty, it is on us all to make sure they get the support they deserve. We have expanded benefits for those who are permanently disabled, and extended them to family members of those who have passed away after experiencing trauma on duty. In 2022, I was proud to sign the Federal Firefighters Fairness Act, getting more than 10,000 Federal firefighters and their families critical workers' compensation and other benefits, by making sure certain heart problems, lung diseases, and cancers are classified as job-related. After years of service, we also have to make sure firefighters get the retirement pay and benefits they have earned. I was proud to sign legislation to keep their disability retirement benefits tax-free. And I will always stand with labor and defend their right to collectively bargain for the good pay, benefits, and safety protections they deserve. This Nation owes every firefighter who gets up each morning and goes to work not knowing if they will make it home. We owe their families. We owe everyone who has ever lost a firefighter that they loved. They lost a piece of their soul. These heroes' courageous legacy lives on in the communities they kept safe, and in our work to be there for one another the way that they were always there for us.

NOW, THEREFORE, I, JOSEPH R. BIDEN JR., President of the United States of America, do hereby proclaim May 4 through May 5, 2024, as National Fallen Firefighters Memorial Weekend. On Sunday, May 5, 2024, in accordance with Public Law 107-51, the flag of the United States will be flown at half-staff at all Federal office buildings in honor of the National Fallen Firefighters Memorial Service. I call upon all Americans to observe these events with appropriate ceremonies and activities and honor our Nation's courageous firefighters who gave their lives to keep the rest of us safe.

IN WITNESS WHEREOF, I have hereunto set my hand this third day of May, in the year of our Lord two thousand twenty-four, and of the Independence of the United States of America the two hundred and forty-eighth.

[FR Doc. 2024-10532

Filed 5-10-24; 8:45 am]

Billing code 3395-F4-P